DEPARTMENT OF TRANSPORTATION

Federal Aviation Administration

14 CFR Part 25

[Docket No. FAA-2009-0810; Notice No. 09-10]

RIN 2120-AJ21

Design Maneuvering Speed Limitation Statement

AGENCY: Federal Aviation Administration (FAA), DOT.

ACTION: Notice of proposed rulemaking (NPRM).

SUMMARY: The Federal Aviation Administration proposes to amend the airworthiness standards applicable to transport category airplanes to clarify that flying at or below the design maneuvering speed does not allow a pilot to make multiple large control inputs in one airplane axis or single full control inputs in more than one airplane axis at a time without endangering the airplane's structure. This proposed regulation is the result of an accident investigation and responds to a National Transportation Safety Board recommendation. The results of the accident investigation indicate that many pilots might have a general misunderstanding of what the design maneuvering speed (VA) is and the extent of structural protection that exists when an airplane is operated at speeds below its VA. This action is being taken to prevent this misunderstanding from causing or contributing to a future accident.

DATES:

Send your comments on or before November 3, 2009.

ADDRESSES: You may send comments identified by Docket Number [Insert docket number, for example, FAA-200X-XXXXX] using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Bring comments to Docket Operations in Room W12-140 of the West Building Ground Floor at 1200 New Jersey Avenue, SE., Washington, DC, between 9 a.m. and 5 p.m., Monday through Friday, except Federal holidays.

• Fax: Fax comments to Docket Operations at 202-493-2251.

For more information on the rulemaking process, see the SUPPLEMENTARY INFORMATION section of this document.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket. Or, go to Docket Operations in Room W12-140 of the West Building Ground Floor at 1200 New Jersey Avenue, SE., Washington, DC between 9 a.m. and 5 p.m., Monday through Friday, except Federal holidays.

FOR FURTHER INFORMATION CONTACT: Technical Information: Don Stimson, FAA, Airplane and Flight Crew Interface Branch, ANM-111, Transport Airplane Directorate, Aircraft Certification Service, 1601 Lind Avenue, SW., Renton, WA 98057-3356; telephone (425) 227-1129; facsimile (425) 227-1149, e-mail don.stimson@faa.gov.

Legal Information: Douglas Anderson, FAA, Office of the Regional Counsel, ANM-7, Northwest Mountain Region, 1601 Lind Avenue, SW., Renton, WA 98057-3356; telephone (425) 227-2166; facsimile (425) 227-1007, e-mail douglas.anderson@faa.gov.

SUPPLEMENTARY INFORMATION: Later in this preamble under the Additional Information section, we discuss how you can comment on this proposal and how we will handle your comments. Included in this discussion is related information about the docket, privacy, and the handling of proprietary or confidential business information. We also discuss how you can get a copy of this proposal and related rulemaking documents.

Authority for This Rulemaking

The FAA's authority to issue rules on aviation safety is found in Title 49 of the United States Code. Subtitle I, section 106 describes the authority of the FAA Administrator. Subtitle VII, Aviation Programs, describes in more detail the scope of the agency's authority.

This rulemaking is promulgated under the authority described in subtitle VII, part A, subpart III, section 44701, “General requirements.” Under that section, the FAA is charged with promoting safe flight of civil aircraft in air commerce by prescribing minimum standards required in the interest of safety for the design and performance of aircraft; regulations and minimum standards in the interest of safety for inspecting, servicing, and overhauling aircraft; and regulations for other practices, methods, and procedures the Administrator finds necessary for safety in air commerce. This regulation is within the scope of that authority because it prescribes—

• New safety standards for the design and performance of transport category airplanes; and

• New safety requirements that are necessary for the design, production, operations, and maintenance of those airplanes, and for other practices, methods, and procedures relating to those airplanes.

Background

On November 12, 2001, American Airlines Flight 587, an Airbus Industrie Model A300-605R airplane, crashed shortly after takeoff from New York's John F. Kennedy International Airport. All 260 people aboard the airplane and 5 people on the ground were killed. The airplane was destroyed by impact forces and a post-crash fire. The National Transportation Safety Board (NTSB) determined “that the probable cause of this accident was the in-flight separation of the vertical stabilizer as a result of the loads beyond ultimate design loads that were created by the first officer's unnecessary and excessive rudder pedal inputs.”

The NTSB's investigation revealed that many pilots might have a general misunderstanding of what the design maneuvering speed (VA) is and the extent of structural protection that exists when an airplane is operated at speeds below its VA. The NTSB found that many pilots of transport category airplanes believe that, as long as they are below the airplane's VA, they can make any control input they desire without risking structural damage to the airplane.

VA is a structural design airspeed used in determining the strength requirements for the airplane and its control surfaces. The structural loads resulting from certain movements of the control surfaces at or below VA must be taken into account during the design of a transport category airplane. The structural design standards only consider a single full control input in any single axis. The design standards also consider an abrupt return of the rudder control to the neutral position. The standards do not address full control inputs in more than one axis at the same time or multiple inputs in the same axis. Therefore, the structural design requirements do not ensure the airplane structure can withstand multiple control inputs in one axis or control inputs in more than one axis at a time at any speed, even below VA.

The NTSB investigation identified what appears to be a widespread misunderstanding among pilots about the degree of structural protection that exists when full or abrupt flight control inputs are made at airspeeds below an airplane's VA. As a result, the NTSB recommended that the FAA amend all relevant regulatory and advisory materials to clarify that operating at or below maneuvering speed does not provide structural protection against multiple full control inputs in one axis or full control inputs in more than one axis at the same time. (See NTSB safety recommendation A-04-060, which is included in the docket for this rulemaking or can be found at http://www.ntsb.gov/Recs/letters/2004/A04_56_62.pdf.)

14 CFR 25.1583(a)(3) currently requires applicants to provide the VA, along with the following statement, in the Airplane Flight Manual (AFM): “Full application of rudder and aileron controls, as well as maneuvers that involve angles of attack near the stall, should be confined to speeds below this value.” Although the required AFM statement warns pilots against making full rudder or aileron control inputs at speeds above VA, it is silent on what control inputs can safely be made below VA. Pilots may misinterpret the AFM statement to imply that any control input can safely be made below VA.

At the FAA's request, manufacturers of transport category airplanes voluntarily revised the AFMs for all major transport category airplane types currently in service to include a statement similar to the following:

Avoid rapid and large alternating control inputs, especially in combination with large changes in pitch, roll, or yaw (e.g., large sideslip angles) as they may result in structural failures at any speed, including below VA.

General Discussion of Proposal

For future airplane designs, this NPRM proposes to amend § 25.1583(a)(3) to change the requirement associated with the statement to be provided in the AFM. The proposed amendment would clarify that flying at or below VA does not allow a pilot to make multiple large control inputs in one airplane axis or single full control inputs in more than one airplane axis at a time without endangering the airplane's structure.

Instead of specifying the exact wording of the statement or set of statements to be included in the AFM, the proposed rule would require statements, as applicable to the particular design, explaining that:

(1) Full application of pitch, roll, or yaw controls should be confined to speeds below VA; and

(2) Rapid and large alternating control inputs, especially in combination with large changes in pitch, roll, or yaw, and full control inputs in more than one axis at the same time should be avoided as they may result in structural failures at any speed, including below VA.

This proposed language would give applicants the flexibility to provide the required safety information in a way that would best fit their airplane design. The proposed revision would only require that the warning statement be included in the AFM if it is applicable. A warning statement would be unnecessary if the airplane is protected from structural damage against all types of control inputs at any speed.

The terms “rudder and aileron controls” in the existing requirement would be replaced by “pitch, roll, and/or yaw controls.” Rudders and ailerons are airplane control surfaces commonly used to provide control in the yaw and roll axes, respectively. However, other control surfaces may be used to either provide or augment control in any given axis. The pilot may not always know which control surface is being moved for any given control input. Since the statement required by § 25.1583(a)(3) is an operating limitation that must be observed by the pilot, the proposed text refers to the pilot control inputs by control axis rather than by control surface.

In addition, the existing text “as well as maneuvers that involve angles of attack near the stall” would be removed. The existing text assumes that, for high angle of attack maneuvers below VA, the airplane will always stall before structural failure can occur. However, this is not always the case. In a pitch-up maneuver, if the pitch rate is rapidly increased through an abrupt pitch input, a phenomenon known as dynamic overshoot may occur. A dynamic overshoot can result in exceeding the airplane's structural limits before the airplane stalls. Also, the airplane manufacturer may choose to select a higher VA than the minimum value required by 14 CFR part 25 certification requirements. This results in a structurally stronger airplane, but does not ensure the airplane will stall before structural failure occurs. The proposed revision addresses these concerns by making the limitation against full application of the roll and yaw controls also applicable to the pitch axis and by removing the words “as well as maneuvers that involve angles of attack near the stall.”

Paperwork Reduction Act

The Paperwork Reduction Act of 1995 (44 U.S.C. 3507(d)) requires that the FAA consider the impact of paperwork and other information collection burdens imposed on the public. We have determined that there is no new information collection requirement associated with this proposed rule.

International Compatibility

In keeping with U.S. obligations under the Convention on International Civil Aviation, it is FAA policy to comply with International Civil Aviation Organization (ICAO) Standards and Recommended Practices to the maximum extent practicable. The FAA has determined that there are no ICAO Standards and Recommended Practices that correspond to these proposed regulations.

Regulatory Evaluation, Regulatory Flexibility Determination, International Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows: Since this proposed rule would merely require a clarifying change to a statement that manufacturers are currently required to provide in the AFM, and there are no changes required to airplane design, test, or analysis, the expected outcome will be minimal costs. The clarification addresses an identified safety issue, so the proposed rule has benefits. Because the outcome of the proposed rule is expected to have minimal costs with positive benefits, a regulatory evaluation was not prepared. The FAA requests comments with supporting justification about the FAA determination of minimal impact.

FAA has, therefore, determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The FAA believes this proposed rule would not have a significant impact on a substantial number of small entities because all United States transport-aircraft category manufacturers exceed the Small Business Administration small-entity criteria of 1,500 employees.

Therefore, the FAA certifies that this proposed rule would not have a significant economic impact on a substantial number of small entities. The FAA solicits comments regarding this determination.

International Trade Impact Assessment

The Trade Agreements Act of 1979 (Pub. L. 96-39), as amended by the Uruguay Round Agreements Act (Pub. L. 103-465), prohibits Federal agencies from establishing any standards or engaging in related activities that create unnecessary obstacles to the foreign commerce of the United States. Pursuant to these Acts, the establishment of standards is not considered an unnecessary obstacle to the foreign commerce of the United States, so long as the standard has a legitimate domestic objective, such as safety, and does not operate in a manner that excludes imports that meet this objective. The statute also requires consideration of international standards and, where appropriate, that they be the basis for U.S. standards. The FAA has assessed the potential effect of this proposed rule and determined that it ensures the safety of the American public. As a result, this rule is not considered as creating an unnecessary obstacle to foreign commerce.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $136.1 million in lieu of $100 million.

This proposed rule does not contain such a mandate. The requirements of Title II do not apply.

Executive Order 13132, Federalism

The FAA has analyzed this proposed rule under the principles and criteria of Executive Order 13132, Federalism. We determined that this action would not have a substantial direct effect on the States, on the relationship between the national Government and the States, or on the distribution of power and responsibilities among the various levels of government, and, therefore, would not have federalism implications.

Regulations Affecting Intrastate Aviation in Alaska

Section 1205 of the FAA Reauthorization Act of 1996 (110 Stat. 3213) requires the Administrator, when modifying regulations in title 14 of the CFR in a manner affecting intrastate aviation in Alaska, to consider the extent to which Alaska is not served by transportation modes other than aviation, and to establish appropriate regulatory distinctions. Because this proposed rule would apply to the certification of future designs of transport category airplanes and their subsequent operation, it could, if adopted, affect intrastate aviation in Alaska. The FAA, therefore, specifically requests comments on whether there is justification for applying the proposed rule differently in intrastate operations in Alaska.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 4(j) and involves no extraordinary circumstances.

Regulations That Significantly Affect Energy Supply, Distribution, or Use

The FAA has analyzed this NPRM under Executive Order 13211, Actions Concerning Regulations that Significantly Affect Energy Supply, Distribution, or Use (May 18, 2001). We have determined that it is not a “significant energy action” under the executive order because it is not a “significant regulatory action” under Executive Order 12866, and it is not likely to have a significant adverse effect on the supply, distribution, or use of energy.

Plain English

Executive Order 12866 (58 FR 51735, Oct. 4, 1993) requires each agency to write regulations that are simple and easy to understand. We invite your comments on how to make these proposed regulations easier to understand, including answers to questions such as the following:

• Are the requirements in the proposed regulations clearly stated?

• Do the proposed regulations contain unnecessary technical language or jargon that interferes with their clarity?

• Would the regulations be easier to understand if they were divided into more (but shorter) sections?

• Is the description in the preamble helpful in understanding the proposed regulations?

Please send your comments to the address specified in the Addresses section of this preamble.

Additional Information

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and we place a note in the docket that we have received it. If we receive a request to examine or copy this information, we treat it as any other request under the Freedom of Information Act (5 U.S.C. 552). We process such a request under the DOT procedures found in 49 CFR part 7.

Availability of Rulemaking Documents

You can get an electronic copy of rulemaking documents using the Internet by—

1. Searching the Federal eRulemaking Portal (http://www.regulations.gov);

2. Visiting the FAA's Regulations and Policies Web page at http://www.faa.gov/regulations_policies/; or

3. Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

You may access all documents the FAA considered in developing this proposed rule, including economic analyses and technical reports, from the internet through the Federal eRulemaking Portal referenced in paragraph (1).

List of Subjects in 14 CFR Part 25

Aircraft, Aviation safety, Reporting and recordkeeping requirements, Safety, Transportation.

The Proposed Amendment

In consideration of the foregoing, the Federal Aviation Administration proposes to amend Chapter I of Title 14, Code of Federal Regulations part 25, as follows:

PART 25—AIRWORTHINESS STANDARDS: TRANSPORT CATEGORY AIRPLANES

1. The authority citation for part 25 continues to read as follows:

Authority: 49 U.S.C. 106(g), 40113, 44701, 44702, 44704.

2. Amend § 25.1583 by revising paragraph (a)(3) to read as follows:

§ 25.1583 Operating limitations.

(a) * * *

(3) The maneuvering speed VA and statements, as applicable to the particular design, explaining that:

(i) Full application of pitch, roll, or yaw controls should be confined to speeds below VA; and

(ii) Rapid and large alternating control inputs, especially in combination with large changes in pitch, roll, or yaw, and full control inputs in more than one axis at the same time, should be avoided as they may result in structural failures at any speed, including below VA.

* * * * *

Issued in Washington, DC, on August 31, 2009.
Dorenda D. Baker,
Director, Aircraft Certification Service.

[FR Doc. E9-21478 Filed 9-3-09; 8:45 am]

BILLING CODE 4910-13-P